DEPARTMENT OF TRANSPORTATION

Office of the Secretary

[Dockets DOT-OST-1997-3017 and DOT-OST-1997-3113]

Notice of Sky King, Inc. To Resume Operations

AGENCY: Department of Transportation.

ACTION: Notice of Order to Show Cause (Order 2014-12-8).

SUMMARY: The Department of Transportation is directing all interested persons to show cause why it should not issue an order finding Sky King, Inc., a U.S. citizen and fit, willing, and able to resume interstate and foreign charter air transportation of persons, property, and mail.

DATES: Persons wishing to file objections should do so no later than December 19, 2014.

ADDRESSES: Objections and answers to objections should be filed in Dockets DOT-OST-1997-3017 and DOT-OST-1997-3113 and addressed to the Department of Transportation, Docket Operations, 1200 New Jersey Avenue SE., West Building Ground Floor, Room W12-140, Washington, DC 20590 and should be served upon the parties listed in Attachment A to the order.

FOR FURTHER INFORMATION CONTACT: Damon D. Walker, Air Carrier Fitness Division, (X-56, Office W86-469), U.S. Department of Transportation, 1200 New Jersey Avenue SE., Washington, DC 20590, (202) 366-9721.

Dated: December 12, 2014.
Susan L. Kurland,
Assistant Secretary for Aviation and International Affairs.

[FR Doc. 2014-29735 Filed 12-18-14; 8:45 am]

BILLING CODE 4910-9X-P